DEPARTMENT OF EDUCATION

National Institute on Disability and Rehabilitation Research—Disability and Rehabilitation Research Projects and Centers Program—Rehabilitation Research and Training Centers

AGENCY: Office of Special Education and Rehabilitative Services, Department of Education.

ACTION: Notice of final priority (NFP) for children with special health care needs.

SUMMARY: The Assistant Secretary for Special Education and Rehabilitative Services announces a funding priority for the National Institute on Disability and Rehabilitation Research's (NIDRR) Disability and Rehabilitation Research Projects and Centers Program, Rehabilitation Research and Training Centers (RRTC) program. The Assistant Secretary may use this priority for competitions in fiscal year (FY) 2005 and later years. We take this action to focus research attention on areas of national need. We intend this priority to improve rehabilitation services and outcomes for individuals with disabilities.

DATES: This priority is effective August 11, 2005.

FOR FURTHER INFORMATION CONTACT: Donna Nangle, U.S. Department of Education, 400 Maryland Avenue, SW., room 6030, Potomac Center Plaza, Washington, DC 20202. Telephone: (202) 245-7462 or by e-mail: donna.nangle@ed.gov.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION:

Rehabilitation Research and Training Centers

RRTCs conduct coordinated and integrated advanced programs of research targeted toward the production of new knowledge to improve rehabilitation methodology and service delivery systems, alleviate or stabilize disability conditions, or promote maximum social and economic independence for persons with disabilities. Additional information on the RRTC program can be found at: http://www.ed.gov/rschstat/research/pubs/res-program.html#RRTC.

General Requirements of Rehabilitation Research and Training Centers

RRTCs must—

• Carry out coordinated advanced programs of rehabilitation research;

• Provide training, including graduate, pre-service, and in-service training, to help rehabilitation personnel more effectively provide rehabilitation services to individuals with disabilities;

• Provide technical assistance to individuals with disabilities, their representatives, providers, and other interested parties;

• Demonstrate in its application how it will address, in whole or in part, the needs of individuals with disabilities from minority backgrounds;

• Disseminate informational materials to individuals with disabilities, their representatives, providers, and other interested parties; and

• Serve as centers for national excellence in rehabilitation research for individuals with disabilities, their representatives, providers, and other interested parties.

The Department is particularly interested in ensuring that the expenditure of public funds is justified by the execution of intended activities and the advancement of knowledge and, thus, has built this accountability into the selection criteria. Not later than three years after the establishment of any RRTC, NIDRR will conduct one or more reviews of the activities and achievements of the RRTC. In accordance with the provisions of 34 CFR 75.253(a), continued funding depends at all times on satisfactory performance and accomplishment of approved grant objectives.

Analysis of Comments and Changes

We published a notice of proposed priority (NPP) for this program in the Federal Register on April 18, 2005 (70 FR 20219). Page 20221 of the NPP included a background statement that described our rationale for proposing this priority.

In response to our invitation in the NPP, one party submitted a comment on the proposed priority. An analysis of the comment and our response follows.

Generally, we do not address technical and other minor changes and suggested changes we are not authorized to make under the applicable statutory authority.

Comment: One commenter stated that all children with disabilities have special health care needs, and that children with disabilities are included in the Maternal and Child Health Bureau's operationalization of the concept of “children with special health care needs.” The commenter asked whether the priority targets only “children with disabilities” or the broader population of “children with special health care needs,” and noted that the latter includes children who do not have a current disability but who are at risk of developing one. The commenter stated that focusing on the broader population makes greater sense as it allows building in a prevention perspective to the work of the RRTC.

Discussion: The target population is specific to children who have both a disability and special health care needs. We acknowledge that there is frequent overlap between children with disabilities and children with special health care needs. However, we also acknowledge that not every child with a special health care need necessarily has a disability, and that not every child with a disability necessarily has significant health care needs beyond those required by children generally. This priority specifies “children with disabilities” with special health care needs in order to highlight the disability focus within the broader group of children with special health care needs. This focus on disability includes the interaction of personal and environmental factors impacting the experience of function and disability. This priority does not target children who do not currently have a disability but who are at risk for developing one. However, it could target children who have both a disability and special health care needs who are at risk for developing additional disabilities. In their applications, applicants will be expected to specify their target population and explain the basis for their decision. The peer review process will evaluate the merits of the proposals.

Change: None.

Note: This notice does not solicit applications. In any year in which we choose to use this final priority, we invite applications through a notice in the Federal Register. When inviting applications we designate the priority as absolute, competitive preference, or invitational. The effect of the priority follows:

Absolute priority: Under an absolute priority, we consider only applications that meet the priority (34 CFR 75.105(c)(3)).

Competitive preference priority: Under a competitive preference priority, we give competitive preference to an application by either (1) awarding additional points, depending on how well or the extent to which the application meets the competitive preference priority (34 CFR 75.105(c)(2)(i)); or (2) selecting an application that meets the competitive preference priority over an application of comparable merit that does not meet the priority (34 CFR 75.105(c)(2)(ii)).

Invitational priority: Under an invitational priority, we are particularly interested in applications that meet the invitational priority. However, we do not give an application that meets the priority a competitive or absolute preference over other applications (34 CFR 75.105(c)(1)).

Note: NIDRR supports the goals of President Bush's New Freedom Initiative (NFI). The NFI can be accessed on the Internet at the following site: http://www.whitehouse.gov/infocus/newfreedom.

The final priority is in concert with NIDRR's 1999-2003 Long-Range Plan (Plan). The Plan is comprehensive and integrates many issues relating to disability and rehabilitation research topics. Applicants will find many sections throughout the Plan that support potential research to be conducted under the final priority. The references to the topic of this priority may be found in the Plan, Chapter 4, Health and Function and Chapter 6, Independent Living and Community Integration. The Plan can be accessed on the Internet at the following site: http://www.ed.gov/rschstat/research/pubs/index.html.

Through the implementation of the NFI and the Plan, NIDRR seeks to: (1) Improve the quality and utility of disability and rehabilitation research; (2) foster an exchange of expertise, information, and training to facilitate the advancement of knowledge and understanding of the unique needs of traditionally underserved populations; (3) determine best strategies and programs to improve rehabilitation outcomes for underserved populations; (4) identify research gaps; (5) identify mechanisms of integrating research and practice; and (6) disseminate findings.

Priority

The Assistant Secretary intends to fund a priority for one RRTC that must focus on children with disabilities and special health care needs. Applicants must demonstrate how their research and development activities will meet the needs of individuals from traditionally underserved populations including, but not limited to, children from low-income backgrounds.

The RRTC must conduct at least two, but not more than four, of the following research activities:

• Identify, develop, and evaluate models and strategies for implementing effective community-based practices for children with disabilities who have special health care needs;

• Identify, develop, and evaluate models and strategies for effective transition of children and adolescents with disabilities who have special health care needs to adulthood, including access to adult health care services, personal assistance services, and full participation in community life;

• Identify and evaluate strategies for maximizing family partnership and decision-making related to access to and use of home- and community-based services for children with disabilities who have special health care needs;

• Identify and evaluate innovative and effective strategies for facilitating access to service delivery for children with disabilities who have special health care needs, including health care reimbursement, assistive technology, and other specialized rehabilitative services (e.g., physical therapy, occupational therapy, telehealth); and

• Identify and evaluate innovative and effective models for establishing coordination within the service delivery system for children with disabilities who have special health care needs.

In addition to the activities proposed by the applicant to carry out this priority, each RRTC must—

• Conduct a state-of-the-science conference on its respective area of research in the third year of the grant cycle and publish a comprehensive report on the final outcomes of the conference in the fourth year of the grant cycle. This conference must include materials from experts internal and external to the RRTC;

• Involve individuals with disabilities in planning and implementing its research, training, and dissemination activities, and in evaluating the RRTC;

• Coordinate on research projects of mutual interest with relevant NIDRR-funded projects as identified through consultation with the NIDRR project officer; and

• Identify anticipated outcomes (i.e., advances in knowledge and/or changes and improvements in policy, practices, behavior, and system capacity) that are linked to the applicant's stated grant objectives.

Executive Order 12866

This NFP has been reviewed in accordance with Executive Order 12866. Under the terms of the order, we have assessed the potential costs and benefits of this regulatory action.

The potential costs associated with the NFP are those resulting from statutory requirements and those we have determined as necessary for administering this program effectively and efficiently.

In assessing the potential costs and benefits—both quantitative and qualitative—of this NFP, we have determined that the benefits of the final priority justify the costs.

Summary of potential costs and benefits: The potential costs associated with this final priority are minimal while the benefits are significant. Grantees may incur some costs associated with completing the application process in terms of staff time, copying, and mailing or delivery. The use of Grants.gov technology reduces mailing and copying costs significantly.

The benefits of the RRTC program have been well established over the years in that similar projects have been completed successfully. This final priority will generate new knowledge and technologies through research, development, dissemination, utilization, and technical assistance projects.

Another benefit of this final priority is that the establishment of a new RRTC will support the President's NFI and will improve the lives of persons with disabilities, in particular promoting research and development activities for children with disabilities and special health care needs. The new RRTC will generate, disseminate, and promote the use of new information that will improve options for children with disabilities and special health care needs, their families, and caregivers.

Applicable Program Regulations: 34 CFR part 350.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.133B Rehabilitation Research and Training Centers Program)

Program Authority: 29 U.S.C. 762(g) and 764(b)(2).

Dated: July 6, 2005.
John H. Hager,
Assistant Secretary for Special Education and Rehabilitative Services.

[FR Doc. 05-13678 Filed 7-11-05; 8:45 am]

BILLING CODE 4000-01-P